DEPARTMENT OF HOMELAND SECURITY

Federal Emergency Management Agency

Agency Information Collection Activities: Proposed Collection; Comment Request

AGENCY: Federal Emergency Management Agency, DHS.

ACTION: Notice; 60-day notice and request for comments; Revision of a currently approved collection, 1660-0045, No Forms.

SUMMARY: The Federal Emergency Management Agency, as part of its continuing effort to reduce paperwork and respondent burden, invites the general public and other Federal agencies to take this opportunity to comment on a revised information collection. In accordance with the Paperwork Reduction Act of 1995, this notice seeks comments concerning the collection of information to assure appropriate flood insurance rates being placed on the affected public within Monroe County in Florida.

SUPPLEMENTARY INFORMATION: Title 44 CFR Parts 59 and 61, National Flood Insurance Program (NFIP); Inspection of Insured Structures by Communities implements the inspection procedures in Monroe County, the City of Marathon, and the Village of Islamorada, Florida and any other community that incorporates in Monroe County on or after January 1, 1999. The inspection procedure has two major purposes: (1) To help the communities of Monroe County, the City of Marathon, and the Village of Islamorada, Florida, and any other communities in Monroe County that incorporate after January 1, 1999, verify that structures in their communities (those built after the effective date of the Flood Insurance Rate Map (FIRM)), referred to as post-FIRM, comply with the community's floodplain management ordinance; and (2) to ensure that property owners pay flood insurance premiums commensurate with their flood risk. The inspection procedure requires owners of insured buildings (policyholders) to obtain an inspection from community floodplain management officials and submit a community inspection report as a condition of renewing the Standard Flood Insurance Policy (SFIP) on buildings.

Collection of Information

Title: Inspection of Insured Structures by Communities.

Type of Information Collection: Revision of a currently approved collection.

OMB Number: 1660-0045.

Form Numbers: No Forms.

Abstract: The community inspection report is used for the implementation of the inspection procedures to help communities in Monroe County, the City of Marathon and the Village of Islamorada, Florida verify buildings are compliant with their floodplain management ordinance and to help FEMA ensure that policyholders are paying flood insurance premiums that are commensurate with their flood risk.

Affected Public: Individuals and Households, State, local and Tribal governments.

Estimated Total Annual Burden Hours: 1,041 hours.

Table A.12—Estimated Annualized Burden Hours and Costs
Type of respondent | Form name/form number | No. of respondents | No. of responses per respondent | Avg. burden per response (in hours) | Total annual burden (in hours) | Avg. hourly wage rate | Total annual respondent cost
Individuals/Households | Inspection acquisition/No form | 833 | 1 | .25 | 208 | $19.29 | $4,012
State/Local/Tribal Governments | Inspection results submission/No Form | 833 | 1 | 1 | 833 | 23.15 | 19,284
Total |  |  |  |  | 1,041 |  | 23,296

Estimated Cost: The estimated annualized cost to respondents based on wage rate categories is $23.296. The estimated annualized cost burden to respondents or recordkeepers is $168,266. The estimated annual cost to the Federal Government is $10,173.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before February 23, 2009.

ADDRESSES: Interested persons should submit written comments to Office of Management, Records Management Division, Federal Emergency Management Agency, 500 C Street, SW., Washington, DC 20472, Mail Drop Room 301.

FOR FURTHER INFORMATION CONTACT: Contact Jennifer Tylander, Program Specialist, FEMA Mitigation Directorate, (202) 646-2607 for additional information. You may contact the Records Management Branch for copies of the proposed collection of information at facsimile number (202) 646-3347 or e-mail address: FEMA-Information-Collections@dhs.gov.

Dated: December 18, 2008.
Samuel C. Smith,
Acting Director, Records Management Division, Office of Management, Federal Emergency Management Agency, Department of Homeland Security.

[FR Doc. E8-30721 Filed 12-23-08; 8:45 am]

BILLING CODE 9110-11-P